CONSUMER PRODUCT SAFETY COMMISSION

Sunshine Act Meetings

Federal Register CITATION OF PREVIOUS ANNOUNCEMENT: Vol. 77, No. 115, Thursday June 14, 2012, page 35660.

ANNOUNCED TIME AND DATE OF OPEN MEETING: 10 a.m.-12 p.m., Wednesday June 20, 2012.

CHANGES TO OPEN MEETING: Time Change to 9 a.m.-12 p.m., June 20, 2012.

Matters to be Considered: Hearing: Agenda and Priorities for Fiscal Year 2014.

For a recorded message containing the latest agenda information, call (301) 504-7948.

CONTACT PERSON FOR ADDITIONAL INFORMATION: Todd A. Stevenson, Office of the Secretary, 4330 East West Highway, Bethesda, MD 20814 (301) 504-7923.

Dated: June 15, 2012.
Todd A. Stevenson,
Secretary.

[FR Doc. 2012-15146 Filed 6-18-12; 11:15 am]

BILLING CODE 6355-01-P